SECURITIES AND EXCHANGE COMMISSION

Sunshine Act Meeting; Cancellation

FEDERAL REGISTER CITATION OF PREVIOUS ANNOUNCEMENT: 85 FR 15002, March 16, 2020.

PREVIOUSLY ANNOUNCED TIME AND DATE OF THE MEETING: Wednesday, March 18, 2020 at 2 p.m.

CHANGES IN THE MEETING: The Closed Meeting scheduled for Wednesday, March 18, 2020 at 2 p.m., has been cancelled.

CONTACT PERSON FOR MORE INFORMATION: For further information; please contact Vanessa A. Countryman from the Office of the Secretary at (202) 551-5400.

Dated: March 17, 2020.
Vanessa A. Countryman,
Secretary.

[FR Doc. 2020-05995 Filed 3-18-20; 11:15 am]

BILLING CODE 8011-01-P